NUCLEAR REGULATORY COMMISSION

[NRC-2016-0160]

Termination of Operating Licenses for Nuclear Reactors

AGENCY: Nuclear Regulatory Commission.

ACTION: Regulatory guide; withdrawal.

SUMMARY: The U.S. Nuclear Regulatory Commission (NRC) is withdrawing Regulatory Guide (RG) 1.86, “Termination of Operating Licenses for Nuclear Reactors.” This RG is being withdrawn because there is more up-to-date guidance in other NRC regulatory documents, making RG 1.86 obsolete.

DATES: The effective date of the withdrawal of RG 1.86 is August 12, 2016.

ADDRESSES: Please refer to Docket ID NRC-2016-0160 when contacting the, NRC about the availability of information regarding this document. You may obtain publically-available information related to this document, using the following methods:

• Federal Rulemaking Web site: Go to http://www.regulations.gov and search for Docket ID NRC-2016-0160. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The basis for the withdrawal of RG 1.86 is available in ADAMS under Accession No. ML16099A267.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Zahira Cruz, Office of Nuclear Materials Safety and Safeguards, telephone: 301-415-3808; email: Zahira.Cruz@nrc.gov, and Harriet Karagiannis, Office of Nuclear Regulatory Research, telephone: 301-415-2493; email: Harriet.Karagiannis@nrc.gov. Both are staff of the U.S. Nuclear Regulatory Commission, Washington, DC 20555-0001.

SUPPLEMENTARY INFORMATION: The NRC staff issued RG 1.86 in June 1974, to provide guidance for termination of licenses for nuclear power plants, including the decommissioning of reactors. In addition, RG 1.86 includes information in Table 1, “Acceptable Surface Contamination Levels,” regarding acceptable average and maximum surface contamination criteria.

The guidance in RG 1.86 is no longer needed because it has been updated and replaced by NRC's regulations and other regulatory guidance. This guidance can be found in RG 1.179, “Standard Formant and Content of License Termination Plans for Nuclear Power Reactors” (ADAMS Accession No. ML110490419); RG 1.184, “Decommissioning of Nuclear Power Reactors” (ADAMS Accession No. ML13144A840); and RG 1.185, “Standard Format and Content for Post-Shutdown Decommissioning Activities Report” (ADAMS Accession No. ML13140A038), which provide the NRC staff guidance on implementing the NRC's regulations related to decommissioning and license termination requirements as amended in 1996 and 1997, respectively.

In addition, various NUREGs, including NUREG-1700, “Standard Review Plan for Evaluating Nuclear Power Reactor License Termination Plans” (ADAMS Accession No. ML003713038; and Volume 2, “Characterization, Survey, and Determination of Radiological Criteria” (ADAMS Accession No. ML032530405), of NUREG-1757, “Consolidated Decommissioning Guidance,” provide up-to-date information that aligns with RGs 1.179, 1.184, and 1.185. Specifically, NUREG 1757, Volume 2, Revision 1, includes: (1) Tables of screening criteria (concentrations) applicable to surface contamination of buildings and to surface soils (Tables H.1 and H.2); and (2) guidance on determining site-specific criteria for buildings and soils remaining onsite at license termination (Chapter 5 and Appendix I).

Also, RG 8.21, “Health Physics Surveys for Byproduct Material at NRC-Licensed Processing and Manufacturing Plants” (ADAMS Accession No. ML003739577); RG 8.23, “Radiation Safety Surveys at Medical Institutions” (ADAMS Accession No. ML003739603); and RG 8.30, “Health Physics Surveys in Uranium Recovery Facilities” (ADAMS Accession No. ML021260524), provide information similar to that included in Table 1 of RG 1.86. Specifically, Table 1 in RG 1.86 is now included in RG 8.23 and is titled, “Table 3 Acceptable Surface Contamination Levels for Uncontrolled Release of Equipment.”

Because RG 1.86 is no longer needed, the NRC is withdrawing RG 1.86. Withdrawal of a RG means that the guide no longer provides useful information or has been superseded by other guidance, technological innovations, congressional actions, or other events. The withdrawal of RG 1.86 does not alter any prior or existing NRC licensing approval or the acceptability of licensee commitments to RG 1.86. Although RG 1.86 is withdrawn, current licensees may continue to use it, and withdrawal does not affect any existing licenses or agreements. However, RG. 1.86 should not be used in future requests or applications for NRC licensing actions.

Dated at Rockville, Maryland, this 4th day of August, 2016.
For the Nuclear Regulatory Commission.
Thomas H. Boyce,
Chief, Regulatory Guidance and Generic Issues Branch, Division of Engineering, Office of Nuclear Regulatory Research.

[FR Doc. 2016-19195 Filed 8-11-16; 8:45 am]

BILLING CODE 7590-01-P